ENVIRONMENTAL PROTECTION AGENCY

40 CFR Part 52

[R08-WY-2006-0001; FRL-8236-2]

Approval and Promulgation of Air Quality Implementation Plans; Revised Format for Materials Being Incorporated by Reference for Wyoming

AGENCY: Environmental Protection Agency (EPA).

ACTION: Final rule; notice of administrative change.

SUMMARY: EPA is revising the format of 40 CFR part 52 for materials submitted by the State of Wyoming that are incorporated by reference (IBR) into its State Implementation Plan (SIP). The regulations affected by this format change have all been previously submitted by Wyoming and approved by EPA.

DATES: Effective Date: This action is effective November 2, 2006.

ADDRESSES: SIP materials which are incorporated by reference into 40 CFR part 52 are available for inspection at the following locations: Air and Radiation Program, Environmental Protection Agency (EPA), Region 8, 999 18th Street, Suite 300, Denver, Colorado 80202-2466; the Air and Radiation Docket and Information Center, EPA Headquarters Library, Infoterra Room (Room Number 3334), EPA West Building, 1301 Constitution Ave., NW., Washington, DC 20460, and the National Archives and Records Administration. If you wish to view Wyoming's SIP material being incorporated by reference in: (1) The EPA Region 8 Office, please contact the individual listed in the FOR FURTHER INFORMATION CONTACT section; or (2) in the EPA Headquarters Library, please call the Office of Air and Radiation (OAR) Docket/Telephone number, (202) 566-1742. For information on the availability of this material at NARA, call 202-741-6030, or go to: http://www.archives.gov/federal-register/cfr/ibr-locations.html.

FOR FURTHER INFORMATION CONTACT: Laurie Ostrand, EPA, Region 8, (303) 312-6437, ostrand.laurie@epa.gov.

SUPPLEMENTARY INFORMATION: Throughout this document, wherever “we” or “our” is used it means the EPA.

Table of Contents

I. Change of IBR Format

A. Description of a SIP

B. How EPA Enforces the SIP

C. How the State and EPA Update the SIP

D. How EPA Compiles the SIP

E. How EPA Organizes the SIP Compilation

F. Where You Can Find a Copy of the SIP Compilation

G. The Format of the New Identification of Plan Section

H. When a SIP Revision Becomes Federally Enforceable

I. The Historical Record of SIP Revision Approvals

II. What EPA Is Doing in This Action

III. Good Cause Exemption

IV. Statutory and Executive Order Review

I. Change of IBR Format

This format revision will affect the “Identification of plan” section of 40 CFR part 52, as well as the format of the SIP materials that will be available for public inspection at the National Archives and Records Administration (NARA); the Air and Radiation Docket and Information Center located at EPA Headquarters in Washington, DC; and the EPA Region 8 Office.

A. Description of a SIP

Each state has a SIP containing the control measures and strategies used to attain and maintain the national ambient air quality standards (NAAQS) and achieve certain other Clean Air Act (Act) requirements (e.g., visibility requirements, prevention of significant deterioration). The SIP is extensive, containing such elements as air pollution control regulations, emission inventories, monitoring network descriptions, attainment demonstrations, and enforcement mechanisms.

B. How EPA Enforces the SIP

Each SIP revision submitted by Wyoming must be adopted at the state level after undergoing reasonable notice and public hearing. SIPs submitted to EPA to attain or maintain the NAAQS must include enforceable emission limitations and other control measures, schedules and timetables for compliance.

EPA evaluates submitted SIPs to determine if they meet the Act's requirements. If a SIP meets the Act's requirements, EPA will approve the SIP. EPA's notice of approval is published in the Federal Register and the approval is then codified in the Code of Federal Regulations (CFR) at 40 CFR part 52. Once EPA approves a SIP, it is enforceable by EPA and citizens in Federal district court.

EPA does not reproduce in 40 CFR part 52 the full text of the Wyoming regulations that we have approved; instead, we incorporate them by reference (“IBR”). EPA approves a given state regulation with a specific effective date and then refer the public to the location(s) of the full text version of the state regulation(s) should they want to know which measures are contained in a given SIP (see “I.F. Where You Can Find a Copy of the SIP Compilation”).

C. How the State and EPA Update the SIP

The SIP is a living document which the state can revise as necessary to address the unique air pollution problems in the state. Therefore, EPA from time to time must take action on SIP revisions containing new and/or revised regulations.

On May 22, 1997 (62 FR 27968), we announced revised procedures for incorporating by reference Federally approved SIPs. The procedures announced included: (1) A new process for incorporating by reference material submitted by states into compilations and a process for updating those compilations on roughly an annual basis; (2) a revised mechanism for announcing EPA approval of revisions to an applicable SIP and updating both the compilations and the CFR; and (3) a revised format for the “Identification of plan” sections for each applicable subpart to reflect these revised IBR procedures.

D. How EPA Compiles the SIP

EPA organized into a compilation the federally-approved regulations, source-specific requirements and nonregulatory provisions we have approved into the SIP. We maintain hard copies of the compilation in binders and we primarily update these binders on an annual basis.

E. How EPA Organizes the SIP Compilation

Each compilation contains three parts. Part one contains the state regulations, part two contains the source-specific requirements that have been approved as part of the SIP (if any), and part three contains nonregulatory provisions that we have approved. Each compilation contains a table of identifying information for each regulation, each source-specific requirement, and each nonregulatory provision. The state effective dates in the tables indicate the date of the most recent revision to a particular regulation. The table of identifying information in the compilation corresponds to the table of contents published in 40 CFR part 52 for the state. The EPA Regional Offices have the primary responsibility for ensuring accuracy and updating the compilations.

F. Where You Can Find a Copy of the SIP Compilation

EPA Region 8 developed and will maintain the compilation for Wyoming. A hard copy of the regulatory and source-specific portions of the compilation will also be maintained at the Air and Radiation Docket and Information Center, EPA Headquarters Library, Infoterra Room (Room Number 3334), EPA West Building, 1301 Constitution Ave., NW., Washington, DC 20460, and the National Archives and Records Administration. If you wish to view the SIP compilation in the EPA Region 8 Offices, please contact the individual listed in the FOR FURTHER INFORMATION CONTACT section. If you wish to view the regulatory and source specific portions of the SIP compilation in the EPA Headquarters Library, please call the Office of Air and Radiation (OAR) Docket/Telephone number: (202) 566-1742. For information on the availability of this material at NARA, call 202-741-6030, or go to: http://www.archives.gov/federal-register/cfr/ibr-locations.html. Copies of the Wyoming regulations we have approved are also available on the following Web page: http://www.epa.gov/region8/air/sip.html.

G. The Format of the New Identification of Plan Section

In order to better serve the public, EPA has revised the organization of the “Identification of plan” section in 40 CFR part 52 and included additional information to clarify the elements of the SIP.

The revised Identification of plan section for Wyoming contains five subsections:

1. Purpose and scope (see 40 CFR 52.2620(a));

2. Incorporation by reference (see 40 CFR 52.2620(b));

3. EPA-approved regulations (see 40 CFR 52.2620(c));

4. EPA-approved source-specific requirements (see 40 CFR 52.2620(d)); and

5. EPA-approved nonregulatory provisions such as transportation control measures, statutory provisions, control strategies, monitoring networks, etc. (see 40 CFR 52.2620(e)).

H. When a SIP Revision Becomes Federally Enforceable

All revisions to the applicable SIP are Federally enforceable as of the effective date of EPA's approval of the respective revisions. In general, SIP revisions become effective 30 to 60 days after publication of EPA's SIP approval action in the Federal Register. In specific cases, a SIP revision action may become effective less than 30 days or greater than 60 days after the Federal Register publication date. In order to determine the effective date of EPA's approval for a specific Wyoming SIP provision that is listed in paragraph 40 CFR 52.2620 (c), (d), or (e), consult the volume and page of the Federal Register cited in the “EPA approval date” column of 40 CFR 52.2620 for that particular provision.

I. The Historical Record of SIP Revision Approvals

To facilitate enforcement of previously approved SIP provisions and to provide a smooth transition to the new SIP processing system, we are retaining the original Identification of plan section (see 40 CFR 52.2635). This section previously appeared at 40 CFR 52.2620. After an initial two-year period, EPA will review our experience with the new table format and will decide whether or not to retain the original Identification of plan section (40 CFR 52.2635) for some further period.

II. What EPA Is Doing in This Action

Today's action constitutes a “housekeeping” exercise to reformat the codification of the EPA-approved Wyoming SIP.

III. Good Cause Exemption

EPA has determined that today's action falls under the “good cause” exemption in section 553(b)(3)(B) of the Administrative Procedure Act (APA) which, upon a finding of “good cause,” authorizes agencies to dispense with public participation, and section 553(d)(3), which allows an agency to make a rule effective immediately (thereby avoiding the 30-day delayed effective date otherwise provided for in the APA). Today's action simply reformats the codification of provisions which are already in effect as a matter of law.

Under section 553 of the APA, an agency may find good cause where procedures are “impractical, unnecessary, or contrary to the public interest.” Public comment is “unnecessary” and “contrary to the public interest” since the codification only reflects existing law. Likewise, there is no purpose served by delaying the effective date of this action.

IV. Statutory and Executive Order Review

A. General Requirements

Under Executive Order 12866 (58 FR 51735, October 4, 1993), this action is not a “significant regulatory action” and is therefore not subject to review by the Office of Management and Budget. This rule is not subject to Executive Order 13211, “Actions Concerning Regulations That Significantly Affect Energy Supply, Distribution, or Use” (66 FR 28355, May 22, 2001) because it is not a significant regulatory action under Executive Order 12866. Because the agency has made a “good cause” finding that this action is not subject to notice-and-comment requirements under the Administrative Procedure Act or any other statute as indicated in the Supplementary Information section above, it is not subject to the regulatory flexibility provisions of the Regulatory Flexibility Act (5 U.S.C 601 et seq.), or to sections 202 and 205 of the Unfunded Mandates Reform Act of 1995 (UMRA) (Pub. L. 104-4). In addition, this action does not significantly or uniquely affect small governments or impose a significant intergovernmental mandate, as described in sections 203 and 204 of UMRA. This rule also does not have a substantial direct effect on one or more Indian tribes, on the relationship between the Federal government and Indian tribes, or on the distribution of power and responsibilities between the Federal government and Indian tribes, as specified by Executive Order 13175 (65 FR 67249, November 9, 2000), nor will it have substantial direct effects on the States, on the relationship between the national government and the States, or on the distribution of power and responsibilities among the various levels of government, as specified in Executive Order 13132 (64 FR 43255, August 10, 1999). This rule also is not subject to Executive Order 13045 (62 FR 19885, April 23, 1997), because it is not economically significant. This rule does not involve technical standards; thus the requirements of section 12(d) of the National Technology Transfer and Advancement Act of 1995 (15 U.S.C. 272 note) do not apply. The rule also does not involve special consideration of environmental justice related issues as required by Executive Order 12898 (59 FR 7629, February 16, 1994). In issuing this rule, EPA has taken the necessary steps to eliminate drafting errors and ambiguity, minimize potential litigation, and provide a clear legal standard for affected conduct, as required by section 3 of Executive Order 12988 (61 FR 4729, February 7, 1996). EPA has complied with Executive Order 12630 (53 FR 8859, March 15, 1998) by examining the takings implications of the rule in accordance with the “Attorney General's Supplemental Guidelines for the Evaluation of Risk and Avoidance of Unanticipated Takings” issued under the executive order. This rule does not impose an information collection burden under the Paperwork Reduction Act of 1995 (44 U.S.C. 3501 et seq.). EPA's compliance with these statutes and Executive Orders for the underlying rules are discussed in previous actions taken on the State's rules.

B. Submission to Congress and the Comptroller General

The Congressional Review Act (5 U.S.C. 801 et seq.), as added by the Small Business Regulatory Enforcement Fairness Act of 1996, generally provides that before a rule may take effect, the agency promulgating the rule must submit a rule report, which includes a copy of the rule, to each House of the Congress and to the Comptroller General of the United States. Section 808 allows the issuing agency to make a rule effective sooner than otherwise provided by the CRA if the agency makes a good cause finding that notice and public procedure is impracticable, unnecessary or contrary to the public interest. Today's action simply reformats the codification of provisions which are already in effect as a matter of law. 5 U.S.C. 808(2). As stated previously, EPA has made such a good cause finding, including the reasons therefore, and established an effective date of November 2, 2006. EPA will submit a report containing this rule and other required information to the U.S. Senate, the U.S. House of Representatives, and the Comptroller General of the United States prior to publication of the rule in the Federal Register. These corrections to the Identification of plan for Wyoming are not a “major rule” as defined by 5 U.S.C. 804(2).

C. Petitions for Judicial Review

EPA has also determined that the provisions of section 307(b)(1) of the Clean Air Act pertaining to petitions for judicial review are not applicable to this action. Prior EPA rulemaking actions for each individual component of the Wyoming SIP compilation had previously afforded interested parties the opportunity to file a petition for judicial review in the United States Court of Appeals for the appropriate circuit within 60 days of such rulemaking action. Thus, EPA sees no need to reopen the 60-day period for filing such petitions for judicial review for this reorganization of the Wyoming “Identification of plan” section of 40 CFR 52.2620.

List of Subjects in 40 CFR Part 52

Environmental protection, Air pollution control, Carbon monoxide, Incorporation by reference, Intergovernmental relations, Lead, Nitrogen dioxide, Ozone, Particulate matter, Reporting and recordkeeping requirements, Sulfur oxides, Volatile organic compounds.

Dated: October 20, 2006.
Kerrigan G. Clough,
Acting Regional Administrator, Region 8.

Part 52 of chapter I, title 40, Code of Federal Regulations, is amended as follows:

PART 52—[AMENDED]

1. The authority for citation for part 52 continues to read as follows:

Authority: 42 U.S.C. 7401 et seq.

Subpart ZZ—Wyoming

2. Section 52.2620 is redesignated as § 52.2635. The section heading and paragraph (a) are revised to read as follows:

§ 52.2635 Original identification of plan section.

(a) This section identifies the original “Air Implementation Plan for the State of Wyoming” and all revisions submitted by Wyoming that were federally approved prior to August 31, 2006.

* * * * *

3. A new § 52.2620 is added to read as follows:

§ 52.2620 Identification of plan.

(a) Purpose and scope. This section sets forth the applicable State Implementation Plan for Wyoming under section 110 of the Clean Air Act, 42 U.S.C. 7410 and 40 CFR part 51 to meet national ambient air quality standards or other requirements under the Clean Air Act.

(b) Incorporation by reference. (1) Material listed in paragraphs (c) and (d) of this section with an EPA approval date prior to August 31, 2006 was approved for incorporation by reference by the Director of the Federal Register in accordance with 5 U.S.C. 552(a) and 1 CFR part 51. Material is incorporated as submitted by the state to EPA, and notice of any change in the material will be published in the Federal Register. Entries for paragraphs (c) and (d) of this section with EPA approval dates after August 31, 2006, will be incorporated by reference in the next update to the SIP compilation.

(2) EPA Region 8 certifies that the rules/regulations provided by EPA in the SIP compilation at the addresses in paragraph (b)(3) of this section are an exact duplicate of the officially promulgated state rules/regulations which have been approved as part of the State Implementation Plan as of August 31, 2006.

(3) Copies of the materials incorporated by reference may be inspected at the Environmental Protection Agency, Region 8, 999 18th Street, Suite 300, Denver, Colorado, 80202-2466; the Air and Radiation Docket and Information Center, EPA West Building, 1301 Constitution Ave., NW., Washington, DC 20460, and the National Archives and Records Administration. For information on the availability of this material at NARA, call 202-741-6030, or go to: http://www.archives.gov/federal-register/cfr/ibr-locations.html.

(c) EPA approved regulations.

(1) State of Wyoming Regulations

State citation | Title/subject | State adopted and effective date | EPA approval date and citation ¹ | Explanations
Chapter 1
Section 2 | Authority | 9/13/99, 10/29/99 | 7/28/04, 69 FR 44965.
Section 3 | Definitions | 9/13/99, 10/29/99 | 7/28/04, 69 FR 44965.
Section 4 | Diluting and concealing emissions | 9/13/99, 10/29/99 | 7/28/04, 69 FR 44965.
Section 5 | Abnormal conditions and equipment | 9/13/99, 10/29/99 | 7/28/04, 69 FR 44965.
Chapter 2
Section 2 | Ambient standards for particulate matter | 9/13/99, 10/29/99 | 7/28/04, 69 FR 44965.
Section 3 | Ambient standards for nitrogen oxides | 9/13/99, 10/29/99 | 7/28/04, 69 FR 44965.
Section 4 | Ambient standards for sulfur oxides | 9/13/99, 10/29/99 | 7/28/04, 69 FR 44965.
Section 5 | Ambient standards for carbon monoxide | 9/13/99, 10/29/00 | 7/28/04, 69 FR 44965.
Section 6 | Ambient standards for ozone | 9/13/99, 10/29/99 | 7/28/04, 69 FR 44965.
Section 8 | Ambient standards for suspended sulfates | 9/13/99, 10/29/99 | 7/28/04, 69 FR 44965.
Section 10 | Ambient standards for lead | 9/13/99, 10/29/99 | 7/28/04, 69 FR 44965.
Chapter 3
Section 2 | Emission standards for particulate matter | 9/13/99, 10/29/99 | 7/28/04, 69 FR 44965.
Section 3 | Emission standards for nitrogen oxides | 9/13/99, 10/29/99 | 7/28/04, 69 FR 44965.
Section 4 | Emission standards for sulfur oxides | 9/13/99, 10/29/99 | 7/28/04, 69 FR 44965.
Section 5 | Emission standards for carbon monoxide | 9/13/99, 10/29/99 | 7/28/04, 69 FR 44965.
Section 6 | Emission standards for volatile organic compounds | 9/13/99, 10/29/99 | 7/28/04, 69 FR 44965.
Chapter 4
Section 2 | Existing sulfuric acid production units | 9/13/99, 10/29/99 | 7/28/04, 69 FR 44965.
Section 3 | Existing nitric acid manufacturing plants | 9/13/99, 10/29/99 | 7/28/04, 69 FR 44965.
Chapter 6
Section 2 | Permit requirements for construction, modification, and operation | 9/13/99, 10/29/99 | 7/28/04, 69 FR 44965.
Section 4 | Prevention of significant deterioration | 9/13/99, 10/29/99 | 7/28/04, 69 FR 44965.
Chapter 7
Section 2 | Continuous monitoring requirements for existing sources | 9/13/99, 10/29/99 | 7/28/04, 69 FR 44965.
Chapter 8
Section 2 | Sweetwater County particulate matter regulations | 9/13/99, 10/29/99 | 7/28/04, 69 FR 44965.
Section 3 | Conformity of general federal actions to state implementation plans | 9/13/99, 10/29/99 | 7/28/04, 69 FR 44965.
Chapter 9
Section 2 | Visibility | 9/13/99, 10/29/99 | 7/28/04, 69 FR 44965.
Chapter 10
Section 2 | Open burning restrictions | 9/13/99, 10/29/99 | 7/28/04, 69 FR 44965.
Section 3 | Wood waste burners | 9/13/99, 10/29/99 | 7/28/04, 69 FR 44965.
Chapter 12
Section 2 | Air pollution emergency episodes | 9/13/99, 10/29/99 | 7/28/04, 69 FR 44965.
Chapter 13
Section 2 | Motor vehicle pollution control | 9/13/99, 10/29/99 | 7/28/04, 69 FR 44965.
¹ In order to determine the EPA effective date for a specific provision that is listed in this table, consult the Federal Register cited in this column for that particular provision.

(d) EPA-approved source-specific requirements.

Name of source | Nature of requirement | State submittal and effective date | EPA approval date and citation ² | Explanations
FMC Corporation | Order containing schedule for compliance, interim requirements, and monitoring and reporting requirements | 1/25/79, 4/25/79 | 7/2/79, 44 FR 38473
Black Hills Power and Light | Order containing schedule for compliance, interim requirements, and monitoring and reporting requirements | 1/25/79, 4/25/79 | 7/2/79, 44 FR 38473
² In order to determine the EPA effective date for a specific provision that is listed in this table, consult the Federal Register cited in this column for that particular provision.

(e) EPA-approved nonregulatory provisions.

Name of nonregulatory SIP provision | Applicable geographic or non-attainment area | State submittal date/adopted date | EPA approval date and citation ³ | Explanations
I. Implementation Plan for the State of Wyoming I. Introduction II. Legal Authority III. Control Strategy IV. Compliance Schedule V. Emergency Plan VI. Air Quality Surveillance VII. Review of New Sources and Modifications VIII. Source Surveillance IX. Resources X. Intergovernmental Cooperation IX. Reports and Revisions Appendices | Statewide | Submitted: 1/28/72, Adopted: 1/22/72, Additional letters submitted on 3/28/72 and 5/3/72 | 5/31/72, 37 FR 10842 | Excluding: (1) the Wyoming Air Quality Act of 1967 and Wyoming Air Quality Standards and Regulations contained in Appendix E (more recent versions of these documents have been approved in the SIP); (2) Section III, paragraph following table I and Section IV, paragraph G (revisions to these paragraphs have subsequently been approved). (See II below.)
II. Revisions to Sections III (paragraph following Table I and IV (paragraph G) of the SIP | Statewide | Submitted: 5/29/73 | 7/3/74, 39 FR 24504
III. Inclusion of the Wyoming Environmental Quality Act, 1973, with amendments incorporated by the 1975 Wyoming State Legislature | Statewide | Submitted: 2/19/76 | 8/31/76, 41 FR 36652
IV. Revisions to Implementation Plan for Air Quality Control Plan State of Wyoming: addition of sections for Implementation Plan Reviews: Added to Air Quality Surveillance Chapter—Public Notification of Air Quality; and added to Intergovernmental Cooperation Chapter—Consultation | Statewide | Submitted: 1/25/79 | 7/2/79, 44 FR 38473
V. SIP for Total Suspended Particulate (TSP) Trona Area of Sweetwater County nonattainment area | Trona area of Sweetwater County | Submitted: 1/25/79 | 7/2/79, 44 FR 38473 | SIP also contained source specific regulations that are now in Chapter 8, Section 2.
VI. Revision to Implementation Plan for Air Quality Control Plan State of Wyoming: Addition of section to Control Strategy Chapter for Implementation Plan Reviews | Statewide | 4/30/91 | 4/19/83, 48 FR 16682
VII. SIP to meet Air Quality Monitoring 40 CFR part 58 | Statewide | Submitted: 8/26/81 | 2/9/82, 47 FR 5892
VIII. Emergency Episode Contingency Plan | Statewide | Submitted: 8/26/81 | 2/9/82, 47 FR 5892
IX. Implementation Plan for Lead | Statewide | Submitted: 8/30/84 | 10/11/84, 49 FR 39843
X. Implementation Plan for Class I Visibility Protection | Statewide | Submitted: 9/6/88 | 2/15/89, 54 FR 6912
XI. Commitment to conduct stack height evaluations in accordance with the “Guideline for Determination of Good Engineering Practice Stack Height (Technical Support Document for the Stack Height Regulations),” EPA 450/4-80-023R, June, 1985 | Statewide | Submitted: 12/9/88 | 3/17/89, 54 FR 11186
XII. Stack Height Demonstration Analyses | Statewide | Submitted: 8/5/86 | 6/7/89, 54 FR 24334
XIII. Implementation Plan on Air Quality Surveillance for Inhalable Particulate Matter (PM10) | Statewide | Submitted: 3/14/89, Adopted: 12/13/88 | 7/10/89 55 FR 28197
XIV. NOX Increment Implementation | Statewide | Submitted: 11/20/90 | 5/24/91, 56 FR 23811
XV. Small Business Program | Statewide | Submitted: 11/1/93 | 6/20/94, 59 FR 31548
XVI. Implementation Plan for PM-10 Control Strategies Sheridan, Wyoming (includes City of Sheridan—Air Quality Maintenance Plan) | Sheridan | Submitted: 8/28/89, Adopted: 7/17/89 | 6/23/94, 59 FR 32360 | Approval does not include sections 2 and 3, Voluntary Curtailment of Solid Fuel Combustion and Industrial Sources.
XVII. Memorandum of Agreement on Procedures for Protecting PM10 NAAQS in the Powder River Basin | Powder River Basin | Signed: 12/22/93 | 9/12/95, 60 FR 47290
³ In order to determine the EPA effective date for a specific provision that is listed in this table, consult the Federal Register cited in this column for that particular provision.

[FR Doc. E6-18423 Filed 11-1-06, 8:45 am]

BILLING CODE 6560-50-P